DEPARTMENT OF TRANSPORTATION

Federal Aviation Administration

Policy Statement No. ANM-03-115-04; Exit Bands

AGENCY: Federal Aviation Administration (FAA), DOT.

ACTION: Notice of final policy.

SUMMARY: The Federal Aviation Administration (FAA) announces the availability of policy on colored exit bands required by § 25.811(f)(1) and (2).

DATES: The policy was issued by the Transport Airplane Directorate on April 2, 2003.

FOR FURTHER INFORMATION CONTACT: Michael T. Thompson, Federal Aviation Administration, Transport Airplane Directorate, Transport Standards Staff, Airframe and Cabin Safety Branch, ANM-115, 1601 Lind Avenue, SW., Renton, WA 98055-4056; telephone (425) 227-1157; fax (425) 227-1149; e-mail: michael.t.thompson@faa.gov.

SUPPLEMENTARY INFORMATION:

Discussion of Comments

A notice of proposed policy was published in the Federal Register on February 27, 2003 (68 FR 9113). One commenter responded to the request for comments.

Background

The policy further simplifies the certification process pertaining to installation of the required 2-inch colored band outlining the exits on transport category airplanes. These bands are necessary so that rescue personnel can readily recognize exits in the side of the fuselage.

The policy as well as the disposition of public comments received is available on the Internet at the following address: http://www.faa.gov/certification/aircraft/anminfo/finalpaper.cfm. If you do not have access to the Internet, you can obtain a copy of the policy by contacting the person listed under FOR FURTHER INFORMATION CONTACT.

Issued in Renton, Washington, on April 2, 2003.
Ali Bahrami,
Acting Manager, Transport Airplane Directorate, Aircraft Certification Service.

[FR Doc. 03-9077 Filed 4-14-03; 8:45 am]

BILLING CODE 4910-13-M